DEPARTMENT OF COMMERCE

National Oceanic and Atmospheric Administration

[RTID 0648-XF361]

Marine Mammals and Endangered Species

AGENCY: National Marine Fisheries Service (NMFS), National Oceanic and Atmospheric Administration (NOAA), Commerce.

ACTION: Notice; issuance of permits and a permit amendment.

SUMMARY: Notice is hereby given that permits and a permit amendment have been issued under the Marine Mammal Protection Act (MMPA) and the Endangered Species Act (ESA), as applicable.

ADDRESSES: The permits and related documents are available for review upon written request via email to NMFS.Pr1Comments@noaa.gov.

FOR FURTHER INFORMATION CONTACT: Jennifer Skidmore (File No. 28233), Sara Young (File Nos. 23858 and 28742), Erin Markin, Ph.D., (File No. 29122), and Shasta McClenahan, Ph.D., (File Nos. 29090 and 29152); at (301) 427-8401.

SUPPLEMENTARY INFORMATION: The requested permits and permit amendment have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable. Notices were published in the Federal Register on the dates listed below that permit requests had been submitted. To locate the Federal Register notice that announced our receipt of the application and a complete description of the activities, go to https://www.federalregister.gov and search for the file number provided in table 1 below.

Table 1—Issued Permits and Permit Amendments
File No. | Version No. | RTID | Applicant | Previous Federal Register notice | Issuance date
23858 | 01 | 0648-XA919 | NMFS' Marine Mammal Laboratory, 7600 Sand Point Way NE, Seattle, WA 98115 (Responsible Party: John Bengtson, Ph.D.) | 86 FR 13700, March 10, 2021 | November 19, 2025.
28223 | N/A | 0648-XE619 | Clearwater Marine Aquarium, 249 Windward Passage, Clearwater, FL 33767 (Responsible Party: Joe Handy) | 90 FR 7661, January 22, 2025 | November 18, 2025.
28742 | N/A | 0648-XE876 | Institute of Marine Sciences, University of California at Santa Cruz, Santa Cruz, CA 95064 (Responsible Party: Roxanne Beltran, Ph.D.) | 90 FR 38466, August 8, 2025 | November 20, 2025.
29090 | N/A | 0648-XF186 | Mark Clementz, Ph.D., University of Wyoming, 1000 East University Avenue, Laramie, WY 82071 | 90 FR 45022, September 18, 2025 | November 21, 2025.
29122 | N/A | 0648-XF119 | Pacific Whale Foundation, 300 Ma'alaea Road, Suite 211, Wailuku, HI 26793 (Responsible Party: Selket Kaufman) | 90 FR 42232, August 29, 2025 | November 20, 2025.
29152 | N/A | 0648-XF221 | Adam Gilbertsen, University of Minnesota, 689 23rd Avenue SE, MRF Room 1-151, Minneapolis, MN 55455 | 90 FR 46565, September 29, 2025 | November 26, 2025.

In compliance with the National Environmental Policy Act of 1969 (42 U.S.C. 4321 et seq.), a final determination has been made that the activities proposed are categorically excluded from the requirement to prepare an environmental assessment or environmental impact statement.

As required by the ESA, as applicable, issuance of these permits was based on a finding that such permits: (1) were applied for in good faith; (2) will not operate to the disadvantage of such endangered species; and (3) are consistent with the purposes and policies set forth in section 2 of the ESA.

Dated: December 10, 2025.
Shannon Bettridge,
Chief, Marine Mammal and Sea Turtle Conservation Division, Office of Protected Resources, National Marine Fisheries Service.

[FR Doc. 2025-22753 Filed 12-12-25; 8:45 am]

BILLING CODE 3510-22-P